DEPARTMENT OF COMMERCE

International Trade Administration

[A-570-891]

Hand Trucks and Certain Parts Thereof From the People's Republic of China: Final Results of Antidumping Duty Administrative Review; 2011-2012

AGENCY: Enforcement and Compliance, International Trade Administration, Department of Commerce.

SUMMARY: On January 23, 2014, the Department of Commerce (the Department) published in the Federal Register the preliminary results of the administrative review of the antidumping duty order ¹ on hand trucks and certain parts thereof (hand trucks) from the People's Republic of China (PRC).² The period of review (POR) is December 1, 2011, through November 30, 2012. This review covers two exporters of the subject merchandise, New-Tec Integration (Xiamen) Co., Ltd. (New-Tec) and Yangjiang Shunhe Industrial Co., Ltd. (Shunhe). We gave interested parties an opportunity to comment on the Preliminary Results. Based upon our analysis of the comments and information received, we made changes to the margin calculations for these final results. The final dumping margin is listed below in the “Final Results of the Review” section of this notice. In addition, we continue to find that Shunhe had no shipments during the POR (see “Final Determination of No Shipments,” infra).

¹ See Notice of Antidumping Duty Order: Hand Trucks and Certain Parts Thereof From the People's Republic of China, 69 FR 70122 (December 2, 2004).

² See Hand Trucks and Certain Parts Thereof From the People's Republic of China: Preliminary Results of Antidumping Duty Administrative Review; 2011-2012, 79 FR 3779 (January 23, 2014) (Preliminary Results).

FOR FURTHER INFORMATION CONTACT: Scott Hoefke, or Robert James, AD/CVD Operations, Office VI, Enforcement and Compliance, International Trade Administration, U.S. Department of Commerce, 14th Street and Constitution Avenue NW., Washington, DC 20230; telephone: (202) 482-4947 or (202) 482-0649, respectively.

DATES: Effective Date: July 29, 2014.

SUPPLEMENTARY INFORMATION:

Background

On January 23, 2014, the Department published in the Federal Register the Preliminary Results of the 2011-2012 administrative review of the antidumping duty order on hand trucks from the PRC. In accordance with 19 CFR 351.309(c)(1)(ii), we invited parties to comment on our Preliminary Results. On February 12, 2014, Gleason Industrial Products, Inc., and Precision Products, Inc. (collectively, petitioners) and Cosco Home and Office Products (Cosco) submitted surrogate value (SV) comments. On February 24, 2014, Cosco submitted SV rebuttal comments. On February 24, 2014, petitioners and Cosco submitted case briefs. On March 3, 2014 and March 4, 2014, petitioners and Cosco submitted rebuttal briefs, respectively.

Scope of the Order

The merchandise subject to the order consists of hand trucks manufactured from any material, whether assembled or unassembled, complete or incomplete, suitable for any use, and certain parts thereof, namely the vertical frame, the handling area and the projecting edges or toe plate, and any combination thereof. They are typically imported under heading 8716.80.50.10 of the Harmonized Tariff Schedule of the United States (HTSUS), although they may also be imported under heading 8716.80.50.90 and 8716.90.50.60. Although the HTSUS subheadings are provided for convenience and customs purposes, the written product description remains dispositive. A full description of the scope of the order is contained in the Final Issues and Decision Memorandum dated concurrently with and hereby adopted by this notice.³

³ See Memorandum to Paul Piquado, “Issues and Decision Memorandum for the Final Results of the Antidumping Duty Administrative Review of Hand Trucks and Certain Parts Thereof from the People's Republic of China” (July 22, 2014) (Issues and Decision Memorandum), dated concurrent with and adopted by this notice, for a complete description of the Scope of the Order.

Analysis of Comments Received

All issues raised in the case and rebuttal briefs by parties in this administrative review are listed in the Appendix to this notice and addressed in the Issues and Decision Memorandum. Parties can find a complete discussion of all issues raised in this review and the corresponding recommendations in this public memorandum, which is electronically available via Enforcement and Compliance's Antidumping and Countervailing Duty Centralized Electronic Service System (IA ACCESS). IA ACCESS is available to registered users at http://iaaccess.trade.gov, and is available to all parties in the Central Records Unit, Room 7046, of the main Department of Commerce building. In addition, a complete version of the Issues and Decision Memorandum can be accessed directly on the Internet at http://enforcement.trade.gov/frn/. The signed and electronic versions of the Issues and Decision Memorandum are identical in content.

Final Determination of No Shipments

For these final results of review, we continue to find that Shunhe had no shipments during the POR.⁴ Consistent with the Department's refinement to its assessment practice in non-market economy (NME) cases regarding no shipment claims, we are completing the administrative review with respect to Shunhe and will issue appropriate instructions to U.S. Customs and Border Protection (CBP) based on the final results of the administrative review.⁵

⁴ See id.

⁵ See Non-Market Economy Antidumping Proceedings: Assessment of Antidumping Duties, 76 FR 65694 (October 24, 2011) and the “Assessment Rates” section below.

Changes Since the Preliminary Results

Based on a review of the record and comments received from interested parties regarding our Preliminary Results, we made certain revisions to the margin calculations for New-Tec. Specifically, the Department used financial statements of Jenbunjerd Co. Ltd. and Office Thai Online Co. Ltd. for 2012; valued a factor of production that had been omitted during the Preliminary Results; changed the Thai Harmonized Tariff Schedule heading for the surrogate value of labels; and we adjusted the calculation of the surrogate value for inland freight, and brokerage and handling.⁶

⁶ See Issues and Decisions Memorandum; see also Memorandum to the File, “Analysis for the Final Results of Hand Trucks and Certain Parts Thereof from the People's Republic of China: New-Tec” (July 22, 2014).

Separate Rates Determination

In our Preliminary Results, we determined that New-Tec met the criteria for separate rate status. We have not received any information since issuance of the Preliminary Results that provides a basis for reconsidering this preliminary determination. Therefore, the Department continues to find that New-Tec meets the criteria for a separate rate.

Final Results of the Review

The Department determines that the following final dumping margin exists for the period December 1, 2011, through November 30, 2012:

Exporter | Weighted- average margin (percent)
New-Tec Integration (Xiamen) Co., Ltd. | 0.00

Assessment Rate

Pursuant to section 751(a)(2)(C) of the Tariff Act of 1930, as amended (the Act), and 19 CFR 351.212(b), the Department determines, and CBP shall assess, antidumping duties on all appropriate entries of subject merchandise and deposits of estimated duties, where applicable, in accordance with the final results of this review. The Department intends to issue appropriate assessment instructions to CBP 15 days after the date of publication of the final results of this review.

For each individually examined respondent in this review whose weighted-average dumping margin is above de minimis (i.e., 0.05 percent) in the final results of this review the Department will calculate importer-specific assessment rates on the basis of the ratio of the total amount of dumping calculated for the importer's examined sales to the total entered value of those sales, in accordance with 19 CFR 351.212(b)(1).⁷ Where an importer-(or customer-specific per-unit rate is greater than de minimis, the Department will instruct CBP to collect the appropriate duties at the time of liquidation. Where either a respondent's weighted average dumping margin is zero or de minimis, the Department will instruct CBP to liquidate appropriate entries without regard to antidumping duties.⁸

⁷ See Antidumping Proceedings: Calculation of the Weighted Average Dumping Margin and Assessment Rate in Certain Antidumping Proceedings: Final Modification, 77FR 8101 (February 14, 2012).

⁸ See id.

In 2011, the Department announced a refinement to its assessment practice in NME cases.⁹ Pursuant to this refinement in practice, for entries that were not reported in the U.S. sales databases submitted by companies individually examined during this review, the Department will instruct CBP to liquidate such entries at the NME-wide rate. In addition, if the Department determines that an exporter under review had no shipments of the subject merchandise, any suspended entries that entered under that exporter's case number (i.e., at that exporter's rate) will be liquidated at the NME-wide rate.¹⁰

⁹ See Non-Market Economy Antidumping Proceedings: Assessment of Antidumping Duties, 76 FR 65694 (October 24, 2011).

¹⁰ See id.

Cash Deposit Requirements

The following cash deposit requirements will be effective upon publication of the final results of this administrative review for all shipments of subject merchandise entered, or withdrawn from warehouse, for consumption on or after the publication date, as provided for by section 751(a)(2)(C) of the Act: (1) for subject merchandise exported by New-Tec, which has a separate rate, the cash deposit rate will be that established in the final results of this review, except, if the rate is zero or de minimis, then zero cash deposit will be required; (2) for any previously reviewed or investigated PRC and non-PRC exporter not listed above that received a separate rate in a previous segment of this proceeding, the cash deposit rate will continue to be the existing exporter-specific rate; (3) for all PRC exporters that have not been found to be entitled to a separate rate, the cash deposit rate will be that for the PRC-wide entity (i.e., 383.60 percent); and (4) for all non-PRC exporters of subject merchandise which have not received their own rate, the cash deposit rate will be the rate applicable to the PRC exporter that supplied the non-PRC exporter. These cash deposit requirements, when imposed, shall remain in effect until further notice.

Notification to Importers

This notice serves as a final reminder to importers of their responsibility under 19 CFR 351.402(f) to file a certificate regarding the reimbursement of antidumping duties prior to liquidation of the relevant entries during the POR. Failure to comply with this requirement could result in the Department's presumption that reimbursement of antidumping duties occurred and the subsequent assessment of double antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and terms of an APO is a violation which is subject to sanction.

Disclosure

The Department will disclose the calculations performed within five days of the date of publication of this notice to parties in this proceeding in accordance with 19 CFR 351.224(b). We are issuing and publishing this administrative review and notice in accordance with sections 751(a)(1) and 777(i)(1) of the Act.

Dated: July 22, 2014.
Paul Piquado,
Assistant Secretary for Enforcement and Compliance.

Appendix

List of Comments Discussed in the Accompanying Final Issues and Decision Memorandum:

Summary

Scope of the Order

List of Comments

Discussion of Issues

Comment 1: Whether To Value Certain Inputs Using Purchases from Market-Economy Suppliers

Comment 2: Surrogate Country

Comment 3: Whether To Use Thai Trolley's Financial Statement

Comment 4: Whether To Use 2012 Thai Financial Statements

Comment 5: Use of Jenbunjerd's Financial Statement

Comment 6: Omitted Factor of Production value

Comment 7: Alternative Surrogate Values for Factors of Production

Comment 8: Alternative Surrogate Freight and Brokerage Methodologies Recommendation

[FR Doc. 2014-17872 Filed 7-28-14; 8:45 am]

BILLING CODE 3510-DS-P